FEDERAL COMUNICATIONS COMMISSION

47 CFR Part 1

[IB Docket No. 98-118; FCC 99-51]

Cable Landing Licenses, Correction

AGENCY: Federal Communications Commission.

ACTION: Correcting amendments.

SUMMARY: This document contains corrections to the biennial review of international common carrier regulations (IB Docket No. 98-118, FCC 99-51), which were published in the Federal Register of April 19, 1999 (64 FR 19057). The regulations related to filing applications for common and non-common carrier cable landing licenses and the relevant fees applicable contained in § 1.767(e) of the Federal Communications Commission rules.

DATES: Effective August 25, 2000.

FOR FURTHER INFORMATION CONTACT: Peggy Reitzel, International Bureau, Telecommunications Division, Federal Communications Commission, and (202) 418-1499.

SUPPLEMENTARY INFORMATION:

Background

The final regulations that are the subject of these corrections superseded 47 CFR 1.767(e) on the effective date and affect persons requiring common carrier cable landing licenses and also for the assignment and transfer of control of cable landing licenses.

Need for Correction

As published, the final regulations contain errors, by way of omission, which may prove to be misleading and need to be clarified.

List of Subjects in 47 CFR Part 1

Communications common carriers.

Accordingly, 47 CFR 1.767(e) is corrected by making the following correcting amendments:

PART 1—PRACTICE AND PROCEDURE

1. The authority citation for part 1 continues to read as follows:

Authority: 15 U.S.C. 79 et seq.

2. Section 1.767(e) is corrected to read as follows:

§ 1.767(e) [Corrected]

* * * * *

(e) A separate application shall be filed with respect to each individual cable system for which a license is required, or for which modification or amendment of a previous license is requested. The application fee for a non common-carrier cable landing license is payment type code BJT. Applicants for common carrier cable landing licenses shall pay the fees for both a common carrier cable landing license (payment type code CXT) and overseas cable construction (payment type code BIT). There is no application fee for modification of a cable landing license, except that the fee for assignment or transfer of control of a cable landing license is payment type code CUT. See § 1.1107(2) of this chapter.

* * * * *

Federal Communications Commission.
William F. Caton,
Deputy Secretary.

[FR Doc. 00-21625 Filed 8-24-00; 8:45 am]

BILLING CODE 6712-01-P